DEPARTMENT OF DEFENSE

Office of the Secretary

Defense Science Board Task Force on Nuclear Treaty Monitoring and Verification

AGENCY: Department of Defense (DoD).

ACTION: Notice of advisory committee meetings.

SUMMARY: The Defense Science Board Task Force on Nuclear Treaty Monitoring and Verification will meet in closed session on July 22-23 and on August 24-25, 2010, in Arlington, VA.

DATES: The meetings will be held on July 22-23 and on August 24-25, 2010.

ADDRESSES: Both meetings will be held at Science Applications International Corporation, 4001 North Fairfax Drive, Suite 300, Arlington, VA.

FOR FURTHER INFORMATION CONTACT: Maj Michael Warner, USAF Military Assistant, Defense Science Board, 3140 Defense Pentagon, Room 3B888A, Washington, DC 20301-3140, via e-mail at michael.warner@osd.mil, or via phone at (703) 571-0081.

SUPPLEMENTARY INFORMATION: The mission of the Defense Science Board is to advise the Secretary of Defense and the Under Secretary of Defense for Acquisition, Technology & Logistics on scientific and technical matters as they affect the perceived needs of the Department of Defense. Both meetings will research and summarize anticipated directions in nonproliferation and arms control agreements and the environments in which they might be implemented.

The task force's findings and recommendations, pursuant to 41 CFR 102-3.140 through 102-3.165, will be presented and discussed by the membership of the Defense Science Board prior to being presented to the Government's decision maker.

Pursuant to 41 CFR 102-3.120 and 102-3.150, the Designated Federal Officer for the Defense Science Board will determine and announce in the Federal Register when the findings and recommendations of the July 22-23 and the August 24-25, 2010, meetings are deliberated by the Defense Science Board.

Interested persons may submit a written statement for consideration by the Defense Science Board. Individuals submitting a written statement must submit their statement to the Designated Federal Official (see FOR FURTHER INFORMATION CONTACT), at any point, however, if a written statement is not received at least 10 calendar days prior to the meetings, which are the subject of this notice, then it may not be provided to or considered by the Defense Science Board. The Designated Federal Official will review all timely submissions with the Defense Science Board Chairperson, and ensure they are provided to members of the Defense Science Board before the meetings that are the subject of this notice.

Dated: June 14, 2010.
Mitchell S. Bryman,
Alternate OSD Federal Register Liaison Officer, Department of Defense.

[FR Doc. 2010-14673 Filed 6-16-10; 8:45 am]

BILLING CODE 5001-06-P